DEPARTMENT OF HEALTH AND HUMAN SERVICES

Administration for Children and Families

[OMB #: 0970-0534]

Proposed Information Collection Activity; American Indian and Alaska Natives Facility Condition, Location, and Ownership Survey

AGENCY: Office of Head Start, Administration for Children and Families, U.S. Department of Health and Human Services.

ACTION: Request for Public Comments.

SUMMARY: The Office of Head Start (OHS), Administration for Children and Families (ACF), U.S. Department of Health and Human Services, is proposing to collect data for the American Indian and Alaska Natives (AIAN) Facility Condition, Location, and Ownership Survey. This survey fulfills a statutory requirement and is conducted every 5 years. The previous survey used for this purpose was approved under Office of Management and Budget (OMB) #: 0970-0534; this request will be submitted under the same OMB number.

DATES: Comments due September 15, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The AIAN Facility Survey is conducted every 5 years in accordance with section 650(b) of the Head Start Act. The most recent survey was approved under OMB #0970-0534 to fulfill the 2020 statutory requirement. This request will be submitted to OMB under the same number as a reinstatement with changes.

The purpose of the survey is to collect current data on the condition, location, and ownership of facilities used by AIAN Head Start programs. The results inform the 2025 Report to Congress and support ongoing policy, funding, and technical assistance decisions. For the 2025 cycle, updates have been made to reflect lessons learned from the 2020 survey and feedback from OHS staff and partners. Changes include more detailed questions on facility safety (e.g., lead testing, pest control, disaster impact), clearer definitions of facility conditions, and expanded items on funding sources and barriers. These revisions aim to strengthen data quality and ensure the survey captures the full scope of infrastructure challenges and needs across AIAN programs.

Respondents: AIAN Early Head Start and Head Start Preschool grantees.

Annual Burden Estimates

Grant recipients will complete the survey for each facility they operate, which based on current grant recipient information is an average of 3.5 responses per respondent. Data collection is expected to take place following OMB approval over a period of about 6 weeks.

Instrument | Total number of respondents | Total number of responses per respondent | Average burden hours per response | Annual burden hours
AIAN Facility Condition, Location, and Ownership Survey | 155 | 3.5 | 0.17 | 92

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 42 U.S.C. 9846.)

Mary C. Jones,
ACF/OPRE Certifying Officer.

[FR Doc. 2025-13294 Filed 7-15-25; 8:45 am]

BILLING CODE 4184-40-P